DEPARTMENT OF HOMELAND SECURITY

Coast Guard

[Docket No. USCG-2017-0827]

Great Lakes Pilotage Advisory Committee

AGENCY: U.S. Coast Guard, Department of Homeland Security.

ACTION: Notice of Federal Advisory Committee meeting.

SUMMARY: The Great Lakes Pilotage Advisory Committee will meet in Martinsburg, West Virginia, at the U.S. Coast Guard National Maritime Center to discuss Committee matters relating to Great Lakes pilotage, including review of proposed Great Lakes pilotage regulations and policies. The meeting will be open to the public.

DATES: The Great Lakes Pilotage Advisory Committee will meet on Tuesday, September 26, 2017, from 8 a.m. to 5:30 p.m. EDT, and on Wednesday, September 27, 2017 from 8 a.m. to 5:30 p.m. EDT. Please note that this meeting may adjourn early if the Committee has completed its business.

ADDRESSES: The meeting will be held at the Coast Guard National Maritime Center, 100 Forbes Drive, Martinsburg, West Virginia, 25404-0001. http://www.dco.uscg.mil/Our-Organization/Assistant-Commandant-for-Prevention-Policy-CG-5P/National-Maritime-Center-NMC/about/.

All attendees will be required to provide a government-issued picture identification card in order to gain admittance to the building.

For additional information on facilities or services for individuals with disabilities or to request special assistance at the meeting, contact the individual listed in the FOR FURTHER INFORMATION CONTACT section of this notice.

Instructions: You are free to submit comments at any time, including orally at the meetings, but if you want Committee members to review your comment before the meetings, please submit your comments no later than September 20, 2017. We are particularly interested in comments on the issues in the “Agenda” section below. You must include the words “Department of Homeland Security” and the docket number USCG-2017-0827. Written comments may also be submitted using the Federal e-Rulemaking Portal at http://www.regulations.gov. If you encounter technical difficulties with comment submission, contact the individual listed in the FOR FURTHER INFORMATION CONTACT section below. Comments received will be posted without alteration at http://www.regulations.gov, including any personal information provided. You may review the Privacy and Security Notice for the Federal Docket Management System at https://www.regulations.gov/privacyNotice.

Docket Search: For access to the docket or to read documents or comments related to this notice, go to http://www.regulations.gov, and use “USCG-2017-0827” in the “Search” box, press Enter, and then click on the item you wish to view.

FOR FURTHER INFORMATION CONTACT: Ms. Michelle Birchfield, Alternate Designated Federal Officer of the Great Lakes Pilotage Advisory Committee, telephone (202) 372-1533, or email michelle.r.birchfield@uscg.mil.

SUPPLEMENTARY INFORMATION: Notice of this meeting is in compliance with the Federal Advisory Committee Act, (Title 5 U.S.C. Appendix). The Great Lakes Pilotage Advisory Committee is established under the authority of 46 U.S.C. 9307, and makes recommendations to the Secretary of Homeland Security and the Coast Guard on matters relating to Great Lakes pilotage, including review of proposed Great Lakes pilotage regulations and policies.

A copy of all meeting materials will be made available at https://homeport.uscg.mil/glpac by September 22, 2017.

Agenda

The Great Lakes Pilotage Advisory Committee will meet on Tuesday, September 26, and Wednesday, September 27, 2017 to review, discuss, deliberate and formulate recommendations, as appropriate, on the following topics:

1. Reports:

a. Change Point Review Subcommittee and;

b. Input to Support Regulatory Reform of Coast Guard Regulations-Executive Orders 13771 and 13783 Subcommittee;

2. Coast Guard contracted studies;

3. Individual pilot compensation;

4. Staffing and dispatch;

5. Use of the 10-year rolling average of traffic;

6. Weighting factors;

7. Authorized pilotage charges;

8. Audits;

9. Working capital fund;

10. Coast Guard communications with external stakeholders;

11. Reports and updates on ongoing association and Pilotage Office projects; and

12. Public comment period.

Public comments or questions will be taken throughout the meeting as the Committee discusses the issues and prior to deliberations and voting. There will also be a public comment period at the end of the meeting. Speakers are requested to limit their comments to 5 minutes. Please note that the public comment period will end following the last call for comments. Contact the individual listed in the FOR FURTHER INFORMATION CONTACT section above, to register as a speaker.

Dated: September 5, 2017.
Michael D. Emerson,
Director, Marine Transportation Systems.

[FR Doc. 2017-19054 Filed 9-7-17; 8:45 am]

BILLING CODE 9110-04-P